DEPARTMENT OF JUSTICE

Notice of Lodging of Proposed Consent Decree Under the Clean Water Act

On June 23, 2016, the Department of Justice lodged a proposed Consent Decree with the United States District Court for the District of Pennsylvania, Middle District, in a lawsuit entitled United States v. D.G. Yuengling and Son, Inc., Civil Action No. 3:16-cv-01252.

The proposed Consent Decree will resolve Clean Water Act claims alleged in this action by the United States against D.G. Yuengling and Son, Inc. (“Defendant”) for violations of the terms and conditions of industrial user pretreatment permits issued pursuant to an approved pretreatment program under the Clean Water Act for two brewery facilities, referred to as the Old Brewery and New Brewery, owned and operated by Defendant. Under the proposed Consent Decree, Defendants will perform injunctive relief including: (1) Development and implementation of a an environmental management system and third-party environmental compliance auditing; (2) constructing a comprehensive pretreatment system for the Old Brewery facility; (3) optimizing and improving operation and maintenance of the pretreatment system at the New Brewery facility; (4) development and implementation of a communication and notification plan; (5) hiring certified wastewater treatment operators; (6) implementing an electronic notification violation system; and (7) implementing a violation response process. In addition, Defendant will pay a $2.8 million civil penalty.

The publication of this notice opens a period for public comment on the proposed Consent Decree. Comments should be addressed to the Assistant Attorney General, Environment and Natural Resources Division, Environmental Enforcement Section, and should refer to United States v. D.G. Yuengling and Son, Inc., D.J. Ref. No. 90-5-1-1-10971. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $20.50 (25 cents per page reproduction cost) for the proposed Consent Decree payable to the United States Treasury. For a paper copy without the appendices, the cost is $13.75.

Robert Brook,
Assistant Section Chief, Environmental Enforcement Section, Environment and Natural Resources Division.

[FR Doc. 2016-15311 Filed 6-27-16; 8:45 am]

BILLING CODE 4410-15-P